DEPARTMENT OF HOMELAND SECURITY

[Docket No. DHS-2005-0035]

Border and Transportation Security Directorate Customs and Border Protection; Notice of Meeting of Departmental Advisory Committee on Commercial Operations of Customs and Border Protection and Related Functions (Commercial Operations Advisory Committee or COAC)

AGENCY: Office of the Assistant Secretary, Border and Transportation Security, DHS.

ACTION: Notice.

SUMMARY: The Departmental Advisory Committee on Commercial Operations of Customs and Border Protection and Related Functions (Commercial Operations Advisory Committee or COAC) will meet in open session. This notice announces the date, time, and location for the second meeting of the ninth term, and the expected agenda for its consideration.

DATES: The next meeting of the COAC will be held on Thursday, May 5, 2005, 9 a.m. to 1 p.m.

ADDRESSES: The meeting will be held in The Ronald Reagan International Trade Center, Pavillion Room, 1300 Pennsylvania Avenue, NW., Washington, DC 20229, telephone (202) 344-1440; facsimile (202) 344-1969.

FOR FURTHER INFORMATION CONTACT: Ms. Monica Frazier, Office of the Assistant Secretary for Border and Transportation Security, Department of Homeland Security, Washington, DC 20528, telephone (202) 282-8431; facsimile (202) 282-8504.

SUPPLEMENTARY INFORMATION: Notice of this meeting is given under the Federal Advisory Committee Act (FACA), Pub. L. 92-463, as amended (5 U.S.C. App.1 et seq.), the Omnibus Budget Reconciliation Act of 1987, Pub. L. 100-203, Title IX, Section 9503(c), December 22, 1987, 100 Stat. 1330-381 (19 U.S.C. 2071 note), and under the Homeland Security Act of 2002, Pub. L. 107-297, November 26, 2002, 116 Stat. 2140, et seq. (6 U.S.C. 101, et seq.).

Draft Agenda: The COAC is expected to pursue the following agenda, which may be modified prior to the meeting:

1. Update on Maritime Transportation Security Act (MTSA) Subcommittee Follow-up Items.

2. Update on Department of Homeland Security (DHS) Organization and Customs and Border Protection (CBP) Strategic Plan.

3. Update on Security Subcommittee.

a. Customs-Trade Partnership Against Terrorism (C-TPAT) Process.

b. Advance Cargo Information.

c. World Customs Organization (WCO) Framework.

4. Update on Creation of Infrastructure Subcommittee.

5. Update on Broker Confidentiality.

6. Update on Achieving Paperless Entry for Apparel and Textiles.

7. Update on International Trade Data Systems (ITDS).

8. Automation Issues.

a. Automated Commercial Environment (ACE) funding and development schedule.

b. Automated Commercial System (ACS) downtime.

9. Food and Drug Administration (FDA) Bioterrorism Act.

10. Focused Assessment Program.

11. Committee Administration.

Public Participation: You may submit comments, identified by DHS-____, by one of the following methods:

• EPA Federal Partner EDOCKET Web Site: http://www.epa.gov/feddocket. Follow instructions for submitting comments on the Web site.

• Federal eRulemaking Portal: http://www.regulations.gov. Follow the instructions for submitting comments.

• E-mail: Monica.Frazier@dhs.gov When submitting comments electronically, please include DHS-____in the subject line of the message.

• Mail: Ms. Monica Frazier, Office of the Assistant Secretary for Border and Transportation Security, Department of Homeland Security, Washington, DC 20528, telephone (202) 282-8431; facsimile (202) 282-8504. To ensure proper handling, please reference DHS-____on your correspondence. This mailing address may also be used for paper, disk, or CD-ROM submissions.

• Hand Delivery/Courier: Ms. Monica Frazier, Office of the Assistant Secretary for Border and Transportation Security, Department of Homeland Security, Washington, DC 20528, telephone (202) 282-8431; facsimile (202) 282-8504.

This meeting is open to the public; however, participation in COAC deliberations is limited to COAC members, Homeland Security and Treasury Department officials, and persons invited to attend the meeting for special presentations. Since seating is limited, all persons attending this meeting should provide notice preferably by 2 p.m. e.s.t. on Thursday, April 28, 2005, to Ms. Monica Frazier, Office of the Assistant Secretary for Border and Transportation Security, Department of Homeland Security, Washington, DC 20528, telephone (202) 282-8431; facsimile (202) 282-8504.

Docket: For access to the docket to read background documents or comments received, go to http://www.epa.gov/feddocket. You may also access the Federal eRulemaking Portal at http://www.regulations.gov. All comments received will be posted without change to http://www.epa.gov/feddocket, including any personal information provided.

Information on Services for Individuals with Disabilities: For information on facilities or services for individuals with disabilities or to request special assistance at the meeting, contact Ms. Monica Frazier, Office of the Assistant Secretary for Border and Transportation Security, Department of Homeland Security, Washington, DC 20528, telephone (202) 282-8431; facsimile (202) 282-8504, as soon as possible.

Dated: April 18, 2005.
Elaine Dezenski,
Acting Assistant Secretary for Border and Transportation Security Policy and Planning.

[FR Doc. 05-8019 Filed 4-19-05; 8:45 am]

BILLING CODE 4820-02-P